DEPARTMENT OF DEFENSE

Department of the Air Force

Air Force Institute of Technology (AFIT) Subcommittee of the Air University Board of Visitors Meeting

The AFIT Subcommittee of the Air University Board of Visitors will hold an open meeting on March 26-28, 2000, with the first business session beginning at 8:30 a.m. in the Commandant's Conference Room, Building 125, Wright-Patterson Air Force Base (AFB), Ohio (5 seats available).

The purpose of the meeting is to give the board an opportunity to review AFIT's educational programs and to present to the Commandant a report of their findings and recommendations concerning these programs.

For further information on this meeting, contact Ms. Beverly Houtz, Directorate of Resources, Air Force Institute of Technology, Wright-Patterson AFB, Ohio 45433, (937) 255-5760.

Janet A. Long,
Air Force Federal Register Liaison Officer.

[FR Doc. 00-3428 Filed 2-14-00; 8:45 am]

BILLING CODE 5001-05-U